DEPARTMENT OF THE INTERIOR

Bureau of Land Management

[AZA 30749]

Public Land Order No. 7467; Withdrawal of National Forest System Lands for San Francisco Peaks/Mount Elden Recreation Area; Arizona

AGENCY: Bureau of Land Management, Interior.

ACTION: Public land order.

SUMMARY: This order withdraws 74,380.50 acres of National Forest System lands from location and entry under the United States mining laws for 20 years to protect the San Francisco Peaks/Mount Elden Recreation Area. An additional 320 acres of non-Federal lands within the San Francisco Peaks/Mount Elden Recreation Area would become subject to the withdrawal if acquired by the United States.

EFFECTIVE DATE: October 16, 2000.

FOR FURTHER INFORMATION CONTACT: Cliff Yardley, BLM Arizona State Office, 222 North Central Avenue, Phoenix, Arizona 85004-2203; 602-417-9437.

By virtue of the authority vested in the Secretary of the Interior by section 204 of the Federal Land Policy and Management Act of 1976, 43 U.S.C. 1714 (1994), it is ordered as follows:

1. Subject to valid existing rights, the following described National Forest System lands are hereby withdrawn from location and entry under the United States mining laws (30 U.S.C. Ch. 2 (1994)), to protect the San Francisco Peaks/Mount Elden Recreation Area:

Gila and Salt River Meridian

Coconino National Forest

T. 21 N., R. 7 E.,

Sec. 1, lots 1 to 4, inclusive, S½N½, and S½;

Sec. 2, lots 1 to 8, inclusive, S½NW¼, S½SE¼, and SW¼, excluding HES 86.

T. 21 N., R. 8 E.,

Sec. 6, lots 1 to 7, inclusive, SW¼NE¼, NE¼NE¼SE¼NE¼,W½E½SE¼NE¼, W½SE¼NE¼, SE¼NW¼, NE¼SW¼, NW¼SE¼SW¼, N½SW¼SE¼SW¼, NW¼SE¼, N½NE¼SE¼, SW¼NE¼SE¼, N½SE¼NE¼SE¼, SW¼SE¼NE¼SE¼, NW¼SE¼SE¼NE¼SE¼, and W½SW¼SE¼SE¼NE¼SE¼.

T. 22 N., R. 6 E.,

Sec. 1, lots 1 to 4, inclusive, S½N½, and S½;

Sec. 2, lots 1 to 4, inclusive, S½N½, and S½;

Sec. 3, lots 1 to 4, inclusive, S½N½, and S½;

Sec. 4, lots 1 to 4, inclusive, S½NE¼, SW¼NW¼, and S½;

Secs. 9 to 11, inclusive;

Sec. 12, E½ and SW¼;

Sec. 13, N½;

Secs. 14 and 15;

Sec. 16, E½.

T. 22 N., R. 7 E.,

Sec. 1, lots 1 to 4, inclusive, S½N½, and S½;

Sec. 2, lots 1 to 4, inclusive, S½N½, and S½;

Sec. 3, lots 1 to 4, inclusive, S½N½, and S½;

Sec. 4;

Sec. 5, lots 1 to 4, inclusive, S½N½, and S½;

Sec. 6, lots 1 to 7, inclusive, S½NE¼, SE¼NW¼, E½SW¼, and SE¼;

Sec. 7, lots 1 to 4, inclusive, E½, and E½W½;

Secs. 8 to 17, inclusive;

Sec. 18, lots 1 to 4, inclusive, E½, and E½W½;

Secs. 20 to 23, inclusive;

Sec. 24, lots 1 to 16, inclusive;

Sec. 25, lots 1 to 16, inclusive;

Sec. 26, lots 1 to 16, inclusive;

Sec. 27, NW¼ and S½;

Secs. 28 and 29;

Sec. 32, N½;

Sec. 33, N½, N½S½, SW¼SE¼, and W½W½W½SE¼SE¼;

Sec. 34, N½, N½SW¼, E½SW¼SW¼, and NW¼SE¼;

Sec. 35, lots 1 to 4, inclusive, W½E½, and W½;

Sec. 36.

T. 22 N., R. 8 E.,

Sec. 5, lots 1 to 4, inclusive, S½N½, and S½;

Sec. 6, lots 1 to 7, inclusive, S½NE¼, SE¼NW¼, W½SW¼, and SE¼;

Sec. 7, lots 1 to 4, inclusive, E½, and E½W½;

Sec. 8, N½, SW¼, and W½SE¼;

Sec. 17, S½N½NE¼NE¼, S½NE¼NE¼, W½NE¼, SE¼NE¼, W½, and SE¼;

Sec. 18, lots 1 to 4, inclusive, E½, and E½W½;

Sec. 19, lots 1 to 4, inclusive, E½, and E½W½;

Sec. 20, N½NE¼NE¼, N½S½NE¼NE¼, SW¼SW¼NE¼NE¼, W½NE¼, S½SE¼NE¼, NW¼, and S½;

Sec. 29, N½, SW¼, N½SE¼, SW¼SE¼, N½SE¼SE¼, and W½SW¼SE¼SE¼;

Sec. 30, lots 1 to 4, inclusive, E½, and E½W½;

Sec. 31, lots 1 to 4, inclusive, E½, and E½W½;

Sec. 32, N½, N½S½, SW¼SW¼, W½SE¼SW¼, N½N½NE¼SE¼SW¼, N½N½NW¼SW¼SE¼, E½SW¼SE¼, and SE¼SE¼.

T. 23 N., R. 6 E.,

Sec. 8, lots 1, 2, 7, and 8;

Sec. 9, lots 1 to 8, inclusive, and N½;

Sec. 10, NE¼, NE¼NE¼NW¼, NE¼NW¼NE¼NW¼, S½NE¼NW¼, NW¼NW¼NW¼NW¼, S½NW¼NW¼NW¼, SW¼NW¼NW¼, S½NW¼, and S½;

Sec. 11, E½, NW¼, W½SW¼, N½NE¼SW¼, SW¼NE¼SW¼, N½SE¼NE¼SW¼, SW¼SE¼NE¼SW¼, E½SE¼SE¼NE¼SW¼, W½NE¼SE¼SW¼, W½SE¼SW¼, E½E½NE¼SE¼SW¼, and E½E½SE¼SE¼SW¼;

Sec. 12;

Sec. 13, lots 1 to 4, inclusive, N½NE¼NE¼, SE¼SE¼NE¼NE¼, N½NW¼NE¼, SW¼NW¼NE¼, S½NE¼SW¼NE¼, NW¼SW¼NE¼, S½S½NE¼, NE¼SE¼NE¼, S½NW¼SE¼NE¼, and W½;

Sec. 14, S½N½S½N½N½, S½S½N½N½, S½N½, E½SW¼, NW¼SW¼, and SE¼;

Sec. 15, N½, SW¼, N½SE¼, and SW¼SE¼;

Sec. 16;

Sec. 17, lots 1 to 8, inclusive, and S½;

Secs. 20 and 21;

Sec. 22, W½NE¼, SE¼NE¼, N½SW¼, N½SW¼SW¼, N½N½SE¼SW¼, SE¼NE¼SE¼SW¼, E½SE¼SE¼SW¼, and SE¼;

Sec. 23, NE¼, E½NW¼, SW¼NW¼, N½SW¼, N½NE¼SW¼SW¼, SE¼NE¼SW¼SW¼, NW¼SW¼SW¼, N½SW¼SW¼SW¼, N½SE¼SW¼, N½SE¼, N½SW¼SE¼, SE¼SW¼SE¼, and SE¼SE¼;

Sec. 24, lots 1 to 8, inclusive, and W½;

Sec. 25, lots 1 to 8, inclusive, and W½;

Sec. 26, E½E½NE¼, NW¼NE¼NE¼, N½SW¼NE¼NE¼, SW¼SW¼NE¼NE¼, S½N½NW¼NE¼, S½NW¼NE¼, SW¼NE¼, NW¼NW¼SE¼NE¼, S½NW¼SE¼NE¼, SW¼SE¼NE¼, S½SW¼, and SE¼;

Sec. 27, N½NE¼NE¼, SW¼NE¼NE¼, W½SE¼NE¼NE¼, N½NE¼SE¼NE¼NE¼, NW¼NE¼, E½W½SW¼NE¼, E½SW¼NE¼, W½SE¼NE¼, W½NE¼SE¼NE¼, S½NE¼NE¼SE¼NE¼, SE¼NE¼SE¼NE¼, SE¼SE¼NE¼, S½SW¼NW¼NW¼, SW¼SE¼NW¼NW¼, W½NE¼SW¼NW¼, W½SW¼NW¼, SE¼SW¼NW¼, SW¼SE¼NW¼, N½NE¼SW¼, N½S½NE¼SW¼, W½W½SW¼, SE¼SW¼SW¼, S½SE¼SW¼, N½N½SE¼, N½SW¼NE¼SE¼, SE¼NE¼SE¼, N½S½NW¼SE¼, SW¼SW¼SE¼, W½SE¼SW¼SE¼, E½SE¼SE¼, and reconveyed portion of NW¼ (AZA 28296);

Secs. 28, 29, 32, and 33;

Sec. 34, SW¼NW¼NE¼, NW¼, and SE¼;

Sec. 35, N½NE¼, E½W½SE¼NE¼, E½SE¼NE¼, N½N½NW¼, SW¼NW¼NW¼, W½SW¼NW¼, N½S½, N½SW¼SW¼, S½SE¼, reconveyed portion of NW¼ known as Parcels 1, 2, and 4 of Snow Bowl Estates (AZA 26537), and SE¼SW¼ excluding patented land;

Sec. 36.

T. 23 N., R. 7 E.,

Sec. 7, lots 1 to 4, inclusive, E½, and E½W½;

Secs. 8 to 11, inclusive;

Sec. 12, lots 1 to 4, inclusive, W½E½, and W½;

Sec. 13, lots 1 to 4, inclusive, W½E½, NW¼, N½SW¼, SW¼SW¼, and N½SE¼SW¼, less and except MS 4652;

Secs. 14 and 15;

Sec. 16, lots 1 to 8, inclusive, and N½;

Sec. 17;

Sec. 18, lots 3, 4, and 5, E½, N½NE¼NW¼, SE¼NE¼NW¼, N½NE¼NW¼NW¼, E½SE¼NW¼, S½SW¼SE¼NW¼, and E½SW¼;

Sec. 19, lots 1 to 4, inclusive, E½, and E½W½;

Secs. 20 and 21;

Sec. 22, lots 1 to 12, inclusive, and NE¼;

Sec. 23;

Sec. 24, lots 1 to 4, inclusive, N½NW¼NE¼, SE¼NW¼NE¼, E½SW¼NW¼NE¼, E½W½SW¼NW¼NE¼, E½W½W½SW¼NW¼NE¼, E½SW¼NE¼, E½NW¼SW¼NE¼, E½W½NW¼SW¼NE¼, E½W½W½NW¼SW¼NE¼, SW¼SW¼NE¼, W½W½W½SW¼NE¼NW¼, W½NW¼, W½W½W½NW¼SE¼NW¼, S½SE¼NW¼, SW¼, and W½SE¼;

Sec. 25, lots 1 to 4, inclusive, W½E½, and W½;

Sec. 26;

Sec. 27, lots 1 to 4, inclusive, W½E½, and W½;

Secs. 28 and 29;

Sec. 30, lots 1 to 12, inclusive, and E½W½;

Sec. 31, lots 1 to 10, inclusive, E½NE¼, and E½W½;

Sec. 32, lots 1 to 4, inclusive, N½, and N½S½;

Sec. 33, lots 1 to 4, inclusive, N½, and N½S½;

Sec. 34, lots 1 to 7, inclusive, W½NE¼, NW¼, N½SW¼, and NW¼SE¼;

Sec. 35, lots 3 to 7, inclusive, N½, N½SW¼, and NE¼SE¼, excluding 50′ R/W for railroad pipeline;

Sec. 36, lots 1 to 7, inclusive, W½NE¼, NW¼, N½SW¼, and NW¼SE¼.

T. 23 N., R. 8 E.,

Sec. 7, lots 1 to 4, inclusive, E½, and E½W½;

Sec. 17, SW¼;

Sec. 18, lots 1 to 4, inclusive, NE¼NE¼, S½NE¼, E½W½, and SE¼;

Sec. 19, lots 1 to 4, inclusive, E½, and E½W½;

Sec. 20, W½;

Sec. 29, N½, SW¼, E½NE¼SE¼, E½NW¼NE¼SE¼, W½E½NW¼SE¼, W½W½SE¼, W½NE¼SW¼SE¼, and N½NE¼SE¼SE¼;

Sec. 30, lots 1 to 4, inclusive, E½, and E½W½;

Sec. 31, lots 1 to 4, inclusive, E½, and E½W½;

Sec. 32, W½NW¼NE¼, W½SE¼NW¼NE¼, S½NE¼, W½, and SE¼.

The areas described aggregate 74,380.50 acres in Coconino County.

2. The following non-Federal lands are located within the San Francisco Peaks/Mount Elden Recreation Area. In the event these lands return to Federal ownership, they would be subject to the terms and conditions of this withdrawal as described in Paragraph 1:

Gila and Salt River Meridian

T. 22 N., R. 6 E.,

Sec. 12, NW¼.

T. 22 N., R. 7 E.,

Sec. 27, NE¼.

The areas described aggregate 320 acres in Coconino County.

3. The withdrawal made by this order does not alter the applicability of those land laws governing the use of the National Forest System lands under lease, license, or permit, or governing the disposal of their mineral or vegetative resources other than under the mining laws.

4. This withdrawal will expire 20 years from the effective date of this order unless, as a result of a review conducted before the expiration date pursuant to Section 204(f) of the Federal Land Policy and Management Act of 1976, 43 U.S.C. 1714(f) (1994), the Secretary determines that the withdrawal shall be extended.

Dated: October 3, 2000.
Sylvia V. Baca,
Assistant Secretary of the Interior.

[FR Doc. 00-26435 Filed 10-13-00; 8:45 am]

BILLING CODE 3410-11-P